SMALL BUSINESS ADMINISTRATION

[Declaration of Disaster #3617]

State of California

Shasta County and the contiguous counties Lassen, Modoc, Plumas, Siskiyou, Tehama, and Trinity in the State of California constitute a disaster area as a result of two wildland fires known as the Bear Fire and the French Fire. The fires began on August 11, 2004 and continue to burn. Applications for loans for physical damage as a result of this disaster may be filed until the close of business on October 25, 2004 and for economic injury until the close of business on May 25, 2005 at the address listed below or other locally announced locations: U.S. Small Business Administration, Disaster Area 4 Office, PO Box 419004, Sacramento, CA 95841-9004.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 361705 and for economic damage is 9ZQ200.

(Catalog of Federal Domestic Assistance Program Nos. 59002 and 59008.)
Dated: August 25, 2004.
Hector V. Barreto,
Administrator.

[FR Doc. 04-20019 Filed 9-1-04; 8:45 am]

BILLING CODE 8025-01-P